DEPARTMENT OF THE INTERIOR

National Park Service

Notice of Intent to Repatriate Cultural Items: Northwest Museum of Arts & Culture, Spokane, WA

AGENCY: National Park Service, Interior.

ACTION: Notice.

Notice is here given in accordance with the Native American Graves Protection and Repatriation Act (NAGPRA), 25 U.S.C. 3005, of the intent to repatriate cultural items in the possession of the Northwest Museum of Arts & Culture, aka Eastern Washington State Historical Society, Spokane, WA, that meet the definition of unassociated funerary objects under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

The funerary objects described below were excavated by Donald Collier, Alfred E. Hudson and Arlo Ford due to the construction of the Grand Coulee Dam and its reservoir (Lake Roosevelt) whose waters would soon cover the area. This undertaking was known as “The Columbian Basin Archaeological Survey” or the “Collier, Hudson, and Ford Project.” It was a multi-institutional venture involving the Eastern Washington State Historical Society (now Northwest Museum of Arts & Culture), University of Washington, and the State College of Washington (now Washington State University). It was also a multi-agency venture involving the Bureau of Reclamation, Bureau of Indian Affairs, Civilian Conservation Corps, and the Works Project Administration (including the National Youth Administration). In 1940, the Eastern Washington State Historical Society became the repository for the collection, as mandated by the Bureau of Reclamation. Portions of the land from which the funerary objects derive were non-Federal lands, and other portions were Federal lands at the time of removal. Moreover, the Federal lands fell under the management authority of several different agencies. Consequently, there has been a question of control over the collection. After several years of research, the Northwest Museum of Arts & Culture has been unable to determine additional specifics regarding the control of each site. Therefore, absent additional information, the Northwest Museum of Arts & Culture is assuming responsibility under NAGPRA with regard to publishing this Notice and repatriating the unassociated funerary objects to the culturally affiliated tribe.

During the period July 1939 - September 1940, funerary objects were systematically removed from Site 2 (45-LI-27), Lincoln County, WA, by Donald Collier, Alfred E. Hudson and Arlo Ford due to the construction of the Grand Coulee Dam and its reservoir (Lake Roosevelt), and they were accessioned by the museum in 1940 (EWSHS Accession #1027). The three unassociated funerary objects are one abalone pendant and two projectile points.

During the period July 1939 - September 1940, funerary objects were systematically removed from Site 7A (45-FE-7), Ferry County, WA, by Collier, Hudson and Ford due to the construction of the Grand Coulee Dam and its reservoir (Lake Roosevelt), and they were accessioned by the museum in 1940 (EWSHS Accession #1027). The 42 unassociated funerary objects are 7 beaver tooth dice, 1 bone awl pendant, 27 dentalia beads, 4 copper pendants, 1 copper bracelet, 1 projectile point and 1 bone awl.

During the period July 1939 - September 1940, funerary objects were systematically removed from Site 24 (45-FE-24), Ferry County, WA, by Collier, Hudson and Ford due to the construction of the Grand Coulee Dam and its reservoir (Lake Roosevelt), and they were accessioned by the museum in 1940 (EWSHS Accession #1027). The 92 unassociated funerary objects are 7 wooden burial markers , 1 dentalia fragment, 5 glass beads, 9 perforated bear claws, 1 carved beaver tooth, 3 copper bells, 1 lot of burial fill, 22 dentalia beads, 2 buckskin or leather fragments, 2 antler digging sticks, 1 abalone shell pendant, 2 scrapers, 2 bone awls, 1 piece of matting, 1 flake, 2 dentalia necklace fragments, 1 small box of dentalia beads, 1 bone needle, 1 copper pendant, 18 rolled copper beads, 6 dentalium, 1 piece of cordage, 1 long jadeite celt and 1 chipped flint fragment.

During the period July 1939 - September 1940, funerary objects were systematically removed from Site 46 (45-Stevens-46), Stevens County, WA, by Collier, Hudson and Ford due to the construction of the Grand Coulee Dam and its reservoir (Lake Roosevelt), and they were accessioned by the museum in 1940 (EWSHS Accession #1027). The 78 unassociated funerary objects are 6 pieces worked bone, 1 jadeite chip, 1 jadeite celt, 44 bone implements, 3 stone pipes, 3 projectile points, 3 schist scrapers, 1 mussel shell, 1 antler wedge, 1 slate needle, 1 slate pendant, 1 pipe fragment, 1 bone awl, 1 slate object, 1 lot of turgite paint material, 1 arrow shaft smoother, 2 hematite pieces, 3 knives, 1 spear point, 1 antler and 1 antler horn implement.

During the period July 1939 - September 1940, funerary objects were systematically removed from Site 47 (45-ST-47), Stevens County, WA, by Collier, Hudson and Ford due to the construction of the Grand Coulee Dam and its reservoir (Lake Roosevelt), and they were accessioned by the museum in 1940 (EWSHS Accession #1027). The 64 unassociated funerary objects are 1 copper bracelet, 7 projectile points, 6 bone combs, 1 bone implement, 1 bone spearpoint, 2 bone whistles, 27 bone awls, 2 copper and shell pendants, 1 spear point, 1 carved stone pipe, 1 jadeite celt, 1 jadeite adze, 2 bone ornaments (possible combs), 1 bone flute fragment, 1 coiled basket, 1 turquoise pendant, 1 dentalia, 2 abalone pendants, 3 glass beads and 1 arrow shaft smoother.

The unassociated funerary objects described above are consistent with cultural items typically found in context with Native American burials in eastern Washington State. Furthermore, accession numbers, as well as field notes and journal entries, indicate that the cultural items were found in connection with human remains. Extensive museum documentation, the geographic locations of the sites, burial patterns, and consultation from the Confederated Tribes of the Colville Indian Reservation, Washington, verify that the cultural items were removed from sites that are within the aboriginal territory of the bands of Indians that now make up the Confederated Tribes of the Colville Indian Reservation, Washington.

Officials of the Northwest Museum of Arts & Culture have determined that, pursuant to 25 U.S.C. 3001(3)(B), the 279 cultural items described above are reasonably believed to have been placed with or near individual human remains at the time of death or later as part of the death rite or ceremony and are believed, by a preponderance of the evidence, to have been removed from a specific burial site of a Native American individual. Officials of the Northwest Museum of Arts & Culture also have determined that, pursuant to 25 U.S.C. 3001(2), there is a relationship of shared group identity that can be reasonably traced between the unassociated funerary objects and the Confederated Tribes of the Colville Indian Reservation, Washington.

Representatives of any other Indian tribe that believe themselves to be culturally affiliated with the unassociated funerary objects should contact Mr. Michael Holloman, Northwest Museum of Arts & Culture, Spokane, WA 99201, telephone (509) 363-5337, before October 25, 2010. Repatriation of the unassociated funerary objects to the Confederated Tribes of the Colville Indian Reservation, Washington, may proceed after that date if no additional claimants come forward.

The Northwest Museum of Arts & Culture is responsible for notifying The Confederated Tribes of the Colville Indian Reservation, Washington, that this notice has been published.

Dated: September 10, 2010
Sherry Hutt,
Manager, National NAGPRA Program.

[FR Doc. 2010-23921 Filed 9-23-10; 8:45 am]

BILLING CODE 4312-50-S